DEPARTMENT OF ENERGY

Federal Energy Regulatory Commission

[Docket No. RP03-41-000]

e prime, inc., Complainant, v. PG&E Gas Transmission, Northwest Corp., Respondent; Notice of Complaint and Request for Fast Track Processing

October 29, 2002.

Take notice that on October 25, 2002, e prime inc. (e prime) filed a Complaint and Request for Fast Track Processing against PG&E Gas Transmission, Northwest Corporation (GTN) requesting that the Federal Energy Regulatory Commission (Commission) find that GTN's demand for collateral support in an amount equal to one year of reservation charges as a precondition to continuing to provide service to e prime is in violation of GTN's tariff, and order GTN immediately to return the collateral cash deposits demanded from e prime, with interest, and to continue providing service to e prime under the Service Agreement.

Any person desiring to be heard or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before November 8, 2002. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Magalie R. Salas,
Secretary.

[FR Doc. 02-28104 Filed 11-1-02; 8:45 am]

BILLING CODE 6717-01-P